DEPARTMENT OF TRANSPORTATION

Federal Transit Administration

Over-the-Road Bus Accessibility Program Grants: Corrections

AGENCY: Federal Transit Administration (FTA), DOT.

ACTION: Notice; corrections and deadline extension.

SUMMARY: This notice corrects dollar thresholds and revenue classifications for large and small intercity fixed-route Class I carriers, and labor protection information, among other things, published in the January 15, 2010 Federal Transit Administration (FTA) Notice titled “Over-the-Road Bus Accessibility Program Grants,” extends the application deadline, and allows applicants to submit a single application for Fiscal Year (FY) 2009 and FY 2010 funding.

FOR FURTHER INFORMATION: Contact the appropriate FTA Regional Office (Appendix A) or Blenda Younger, Office of Program Management, (202) 366-2053.

Corrections

On page 2584, in the second column, the text following “D. Vehicle and Service Definitions:” is revised to read: “The application includes six criteria factors that will be reviewed to determine eligibility for a portion of the funding available to operators that qualify under this definition.”

On page 2584, in the third column, the text following 1. Eligible Applicants: is revised to read: “Intercity, fixed-route OTRB service providers may apply for the funds that were appropriated for intercity fixed-route providers in FY 2009 and FY 2010.”

On page 2585, in the second column, the text following “Application Content,” is revised to read, “For fixed-route carriers, whether you are a large (Class I, with gross annual transportation revenues of $8.6 million or more) or small (gross transportation revenues of less than $8.6 million annually) carrier.”

On page 2586, in the first column, the text following III. Labor Information: is revised to read: “The Applicant agrees to comply with the terms and conditions of the Special Warranty for the Over-the-Road Bus Accessibility Program that is most current as of the date of execution of the Grant Agreement or Cooperative Agreement for the project, and any alternative comparable arrangements specified by U.S. DOL for application to the Applicant's project, in accordance with U.S. DOL guidelines, “Section 5333(b), Federal Transit Law,” 29 CFR part 215, and any revisions thereto. Any U.S. DOL Special Warranty that may be provided and any documents cited therein are incorporated by reference and made part of the Grant Agreement.”

Additional information regarding grants that require referral can be found on DOL's Web site: https://www.dol.gov/esa/olms/regs/compliance/redesign_2006/redesign2006_transitemplprotect.htm.

On page 2586, in the second column, the text following “Note:” is revised to read: “Applicants will not be considered for funding as intercity fixed-route operators unless they satisfy, at a minimum, the first two criteria and at least one of criteria three through six listed in the Project Information section of the application; these criteria are applicable to intercity fixed-route applicants.”

On page 2587, in the first, second, and third columns, the text following “C. Labor Protection:” is revised to read: “Section 3013(h) of SAFETEA-LU amended 49 U.S.C. Section 5311(j)(1) to permit the Secretary of Labor to utilize a special warranty that provides a fair and equitable arrangement to protect the interest of employees as set forth in 49 U.S.C. 5333(b). Pursuant to this authorization, the Department of Labor (DOL) amended its implementing regulations at 29 CFR part 215 (73 FR 47046, Aug. 13, 2008). On October 1, 2008, DOL began using a revised special warranty for the Section 5311 program which is appropriate for use with OTRB grants. All OTRB grants awarded after October 1, 2008 will be subject to the special warranty for labor protective arrangements under the Section 5311 program, which will be incorporated by reference in the grant agreement.”

On page 2588, in the first column, the text following “E. Standard Assurances” on page 2587: is revised to read: “Certifications and Assurances for grants to be awarded under this program in FY 2009 are included in the FTA Certifications and Assurances for FY 2010 which were published in the Federal Register of October 19, 2009, and made available for electronic signature in FTA's grants system.”

On page 2588, in the second column, the text following “E. Intercity Fixed-Route Carriers:” is revised to read: “Large/Class I (gross annual transportation revenues of $8.6 million or more). Small (gross annual transportation revenues of less than $8.6 million).”

This Notice also extends the application deadline to May 10, 2010. FTA may use additional discretionary funding made available in FY 2010 for allocation under the OTRB program. Therefore applicants may apply for FY 2009 and FY 2010 funds in a single application.

Issued in Washington, DC, this 12th day of April 2010.
Peter Rogoff,
Administrator.

Appendix A

FTA Regional and Metropolitan Offices

Richard H. Doyle, Regional Administrator, Region 1-Boston, Kendall Square, 55 Broadway, Suite 920, Cambridge, MA 02142-1093, Tel. 617-494-2055 | Robert C. Patrick, Regional Administrator, Region 6-Ft. Worth, 819 Taylor Street, Room 8A36, Ft. Worth, TX 76102, Tel. 817-978-0550.
States served: Connecticut, Maine, Massachusetts, New Hampshire, Rhode Island, and Vermont | States served: Arkansas, Louisiana, Oklahoma, New Mexico and Texas.
Brigid Hynes-Cherin, Regional Administrator, Region 2-New York, One Bowling Green, Room 429, New York, NY 10004-1415, Tel. 212-668-2170 | Mokhtee Ahmad, Regional Administrator, Region 7-Kansas City, MO, 901 Locust Street, Room 404, Kansas City, MO 64106, Tel. 816-329-3920.
States served: New Jersey, New York. | States served: Iowa, Kansas, Missouri, and Nebraska.
New York Metropolitan Office, Region 2-New York, One Bowling Green, Room 428, New York, NY 10004-1415, Tel. 212-668-2202 |
Letitia Thompson, Regional Administrator, Region 3-Philadelphia, 1760 Market Street, Suite 500, Philadelphia, PA 19103-4124, Tel. 215-656-7100 | Terry Rosapep, Regional Administrator, Region 8-Denver, 12300 West Dakota Ave., Suite 310, Lakewood, CO 80228-2583, Tel. 720-963-3300.
States served: Delaware, Maryland, Pennsylvania, Virginia, West Virginia, and District of Columbia | States served: Colorado, Montana, North Dakota, South Dakota, Utah, and, Wyoming.
Philadelphia Metropolitan Office, Region 3-Philadelphia, 1760 Market Street, Suite 500, Philadelphia, PA 19103-4124, Tel. 215-656-7070 |
Washington, DC Metropolitan Office, 1990 K Street, NW., Room 510, Washington, DC 20006, Tel. 202-219-3562 |
Yvette Taylor, Regional Administrator, Region 4-Atlanta, 230 Peachtreet Street, NW., Suite 800, Atlanta, GA 30303, Tel. 404-865-5600 | Leslie T. Rogers, Regional Administrator, Region 9-San Francisco, 201 Mission Street, Room 1650, San Francisco, CA 94105-1926, Tel. 415-744-3133.
States served: Alabama, Florida, Georgia, Kentucky, Mississippi, North Carolina, Puerto Rico, South Carolina, Tennessee, and the Virgin Islands | States served: American Samoa, Arizona, California, Guam, Hawaii, Nevada, and the Northern Mariana Islands.
| Los Angeles Metropolitan Office, Region 9-Los Angeles, 888 S. Figueroa Street, Suite 1850, Los Angeles, CA 90017-1850, Tel. 213-202-3952.
Marisol Simon, Regional Administrator, Region 5-Chicago, 200 West Adams Street, Suite 320, Chicago, IL 60606, Tel. 312-353-2789 | Rick Krochalis, Regional Administrator, Region 10-Seattle, Jackson Federal Building, 915 Second Avenue, Suite 3142, Seattle, WA 98174-1002, Tel. 206-220-7954.
States served: Illinois, Indiana, Michigan, Minnesota, Ohio, and Wisconsin | States served: Alaska, Idaho, Oregon, and Washington.
Chicago Metropolitan Office, Region 5-Chicago, 200 West Adams Street, Suite 320, Chicago, IL 60606, Tel. 312-353-2789 |

[FR Doc. 2010-8963 Filed 4-14-10; 4:15 pm]

BILLING CODE P